DEPARTMENT OF COMMERCE

National Oceanic and Atmospheric Administration

50 CFR Part 622

[Docket No. 050228048-5048-01; I.D. 021705A]

RIN 0648-AS19

Fisheries of the Caribbean, Gulf of Mexico, and South Atlantic; Reef Fish Fishery of the Gulf of Mexico; Vermilion Snapper Rebuilding Plan

AGENCY: National Marine Fisheries Service (NMFS), National Oceanic and Atmospheric Administration (NOAA), Commerce.

ACTION: Proposed rule; request for comments.

SUMMARY: NMFS issues proposed regulations to implement Amendment 23 to the Fishery Management Plan (FMP) for the Reef Fish Resources of the Gulf of Mexico (Amendment 23) prepared by the Gulf of Mexico Fishery Management Council (Council). These proposed regulations would increase the minimum size limit for vermilion snapper to 11 inches (27.9 cm), total length (TL), for the recreational and commercial sectors; establish a 10-fish recreational bag limit for vermilion snapper within the existing 20-fish aggregate reef fish bag limit; and close the commercial vermilion snapper fishery from April 22 through May 31 each year. In addition, consistent with the requirements of the Magnuson-Stevens Fishery Conservation and Management Act (Magnuson-Stevens Act), Amendment 23 would establish a stock rebuilding plan, biological reference points, and stock status determination criteria for vermilion snapper in the Gulf of Mexico. The intended effect of these proposed regulations is to end overfishing and rebuild the vermilion snapper resource.

DATES: Written comments on the proposed rule must be received no later than 5 p.m., eastern time, on April 25, 2005.

ADDRESSES: You may submit comments on the proposed rule by any of the following methods:

• E-mail: 0648-AS19.Proposed@noaa.gov. Include in the subject line the following document identifier: 0648-AS19.

• Federal e-Rulemaking Portal: http://www.regulations.gov. Follow the instructions for submitting comments.

• Mail: Peter Hood, Southeast Regional Office, NMFS, 9721 Executive Center Drive N., St. Petersburg, FL 33702.

• Fax: 727-570-5583 (through March 18, 2005), 727-824-5308 (on and after March 22, 2005); Attention: Peter Hood.

Copies of Amendment 23, which includes a Regulatory Impact Review (RIR), Initial Regulatory Flexibility Analyses (IRFAs), and a Final Supplemental Environmental Impact Statement (FSEIS), may be obtained from the Gulf of Mexico Fishery Management Council, The Commons at Rivergate, 3018 U.S. Highway 301 North, Suite 1000, Tampa, FL 33619-2266; telephone: 813-228-2815; fax: 813-225-7015; e-mail: gulfcouncil@gulfcouncil.org. Copies of Amendment 23 can also be downloaded from the Council's website at www.gulfcouncil.org.

FOR FURTHER INFORMATION CONTACT: Peter Hood, telephone: 727-570-5305; fax: 727-570-5583 (through March 18, 2005), 727-824-5308 (on and after March 22, 2005); e-mail: peter.hood@noaa.gov.

SUPPLEMENTARY INFORMATION: The reef fish fishery in the exclusive economic zone (EEZ) of the Gulf of Mexico is managed under the FMP. The FMP was prepared by the Council and is implemented under the authority of the Magnuson-Stevens Act by regulations at 50 CFR part 622.

Background

In October 2003, NMFS declared the Gulf of Mexico stock of vermilion snapper to be overfished and undergoing overfishing. This determination was based, in part, on the results of a 2001 NMFS vermilion snapper stock assessment and review by the Council's Reef Fish Stock Assessment Panel that found the stock to be undergoing overfishing. Subsequently, NMFS reexamined the assessment, as well as more recent data that ultimately supported the findings of the assessment, and declared the Gulf of Mexico vermilion snapper stock overfished. Therefore, measures to end overfishing and a rebuilding plan to restore the stock to the stock biomass needed to allow harvest at maximum sustainable yield (BMSY) in 10 years or less are still necessary.

Amendment 23 and this proposed rule contain measures for vermilion snapper that are designed to end overfishing and initiate implementation of the rebuilding plan in a manner that allocates the necessary restrictions fairly and equitably between the recreational and commercial sectors of the fishery, as required by the Magnuson-Stevens Act.

Stock Rebuilding Plan

Amendment 23 would establish a 10 year vermilion snapper rebuilding plan, structured in one 4-year interval followed by two 3 year intervals, that would end overfishing and rebuild the stock to BMSY. In Amendment 23, the rebuilding plan begins in 2004 and continues through 2013. However, due to the time required to complete supporting documentation, implementation of this amendment will not occur until 2005. Therefore, the rebuilding plan has been moved forward one year and will begin in 2005. Measures to implement the plan are designed to allocate the required reductions equitably between the commercial and recreational sectors. The intervals are intended to provide short-term stability for the management and operation of the fishery, correlate more closely with the timing of future stock assessments, and provide a more reasonable time period for assessing the impacts of prior management actions. The appropriate parameters for each time interval, consistent with the overall objectives of the rebuilding plan, would be determined based upon the most recent stock assessment.

Initial (2005-2008) Implementation of the Rebuilding Plan

Based on the results of the 2001 vermilion snapper stock assessment and updated indices of abundance, the allowable harvest for the first 4-year interval starting in 2005 is 1.475 million lb (0.664 million kg). This equates to a 25.5-percent reduction in harvest based on the 2003 predicted landings. The following measures in this proposed rule are designed to achieve that reduction fairly and equitably within both the commercial and recreational sectors.

Measures Applicable to the Recreational Vermilion Snapper Fishery

This proposed rule would establish a minimum size limit for recreationally caught vermilion snapper of 11 inches (27.9 cm) total length (TL) and a bag limit of 10 fish within the 20 reef fish aggregate bag limit. The increase in the size limit, from 10 inches (25.4 cm) TL to 11 inches (27.9 cm) TL, and the further restriction of the bag limit would achieve approximately a 21.5-percent reduction relative to the estimated 2003 recreational harvest. Size limits are an effective method to protect fish until they become mature and have had a chance to spawn. Ninety percent of female vermilion snapper are mature by 8 inches (20.3 cm) TL, so the 11-inch (27.9-cm) minimum size limit would ensure that even the fastest growing fish would be able to spawn before entering the fishery. Reducing the bag limit would reduce fishing mortality on legal-sized fish.

The reduction in harvest achieved by these measures is slightly less than the target 25.5 percent specified by the rebuilding plan. Vermilion snapper harvest has increased dramatically from the late 1980s and early 1990s principally as a result of increases in commercial harvest. This increase is believed to have been the primary cause of the overfishing and overfished conditions that must now be addressed by this amendment. Therefore, the Council believed that less of the socioeconomic cost of rebuilding the fishery needed to be placed on the recreational sector.

Measures Applicable to the Commercial Vermilion Snapper Fishery

For the commercial fishery, this proposed rule would establish a vermilion snapper minimum size limit of 11 inches (27.9 cm) TL and a closed season from April 22 through May 31 each year. This would achieve a 26.3-percent harvest reduction from the estimated 2003 commercial landings. Increasing the minimum size limit from 10 inches (25.4 cm) to 11 inches (27.9 cm) TL would ensure that even the fastest growing fish would be able to spawn before entering the fishery, but will initially increase the number of discards early in the rebuilding plan until the population rebuilds. The season closure may increase discards during the time period that the red snapper fishery is open, May 1 through May 10. However, the closed season will provide some protection for spawning vermilion snapper because the closure is at the beginning of the spawning season. The combination size limit increase and season closure is expected to produce a small initial net economic loss during the first 5 years of the rebuilding plan, but economic gains should be realized during the second half of the 10-year rebuilding period.

The reduction in harvest achieved by these measures is slightly more than the target 25.5 percent needed by the rebuilding plan. As mentioned above, increasing harvests by the commercial sector are believed to have contributed the most to the overfishing and overfished conditions that must now be addressed by this amendment. Therefore, the Council believed that more of the socioeconomic cost of rebuilding the fishery needed to be placed on the commercial sector. Because the commercial sector lands the majority of vermilion snapper (79 percent of the harvest between 1996 and 2002), the harvest reduction of 26.3 percent obtained by these measures was deemed appropriate.

Biological Reference Points and Stock Status Determination Criteria

Consistent with the requirements of the Magnuson-Stevens Act, Amendment 23 would also establish the following biological reference points and stock status determination criteria for Gulf of Mexico vermilion snapper: maximum sustainable yield (MSY); optimum yield (OY); maximum fishing mortality threshold (MFMT) (the fishing mortality rate which, if exceeded, constitutes overfishing); and minimum stock size threshold (MSST) (the stock size below which the stock would be considered overfished).

MSY = The yield associated with the rate of instantaneous fishing mortality that can produce maximum sustainable yield (FMSY) when the stock is at equilibrium. MSY is estimated to be 3.37 million lb (range 3.18 to 4.03 million lb) (1.52 million kg; range 1.43 to 1.81 million kg).

OY = The yield corresponding to a fishing mortality rate (FOY) defined as 0.75*FMSY when the stock is at equilibrium. During the rebuilding period (2005-2014), OY is defined as the allowable harvest for each year based on the rebuilding strategy.

MFMT = FMSY (currently estimated at 0.32), or the fishing mortality consistent with recovery to MSY in no more than 10 years.

MSST = (1-M)*BMSY (or BMSY proxy). M is the natural mortality rate for vermilion snapper and is currently estimated to be 0.25. Because the most recent stock assessment estimates BMSY as 10.6 million lb (4.8 million kg), MSST would equal 7.95 million lb (3.58 million kg).

Classification

At this time, NMFS has not determined that Amendment 23, which this proposed rule would implement, is consistent with the national standards of the Magnuson-Stevens Act and other applicable laws. In making that determination, NMFS will take into account the data, views, and comments received during the comment period on Amendment 23 and the comment period on this proposed rule.

This proposed rule has been determined to be not significant for purposes of Executive Order 12866.

The Council prepared a final supplemental environmental impact statement (FSEIS) for Amendment 23; a notice of availability was published on February 24, 2005 (70 FR 9028). The FSEIS concluded that the establishment of biological reference points and status determination criteria would have no direct positive or negative significant impacts on vermilion snapper, other species, or participants in the vermilion snapper fishery because they simply provide fishery managers with reference point to consider in developing fishery management measures and assessing fishery performance. The rebuilding plan would increase the vermilion snapper stock size and ensure the stock's ability to sustain itself over the long term. This would provide significant positive effects to the biological and ecological environment. While the rebuilding plan and associated harvest reduction create short-term economic losses in both the recreational and commercial fisheries, they are expected to create positive long-term economic benefits when compared to status quo.

NMFS prepared an IRFA as required by section 603 of the Regulatory Flexibility Act. The IRFA describes the economic impact this proposed rule, if adopted, would have on small entities. A description of the action, why it is being considered, and the legal basis for this action are contained at the beginning of this section in the preamble and in the SUMMARY section of the preamble. A summary of the analysis follows.

The Magnuson-Stevens Act provides the statutory basis for the proposed rule. The proposed rule will set specific sustainable fishing parameters for vermilion snapper and establish a rebuilding plan for the overfished vermilion snapper stock.

The objectives of the proposed rule are to bring management of the vermilion snapper fishery into compliance with requirements of the Magnuson-Stevens Act by addressing the overfished and overfishing conditions of the vermilion snapper stock and establishing a rebuilding plan for the overfished vermilion snapper stock.

The proposed rule would impact both the commercial and recreational participants in the Gulf reef fish fishery. At present, both the commercial and for-hire reef fish permits are under a moratorium, and no new permits will be issued during the moratorium. Reef fish dealers in the Gulf are required to obtain permits to handle reef fish caught in the Gulf. There are 1,158 active commercial reef fish permits (as of October 2003). Of these commercial permitees, 441 vessels reported in their logbook submissions to have landed vermilion snapper, with most using vertical line gear. There are 1,552 for-hire vessels with active permits (as of October 2003). Also, there are 431 dealers that purchase reef fish from various vessels in the Gulf. The proposed rule is expected to affect these commercial vessels, for-hire vessels, and fish dealers.

According to a survey of commercial fishing vessels in the Gulf, average gross receipts ranged from $24,095 for low-volume vertical line vessels to $116,989 for high-volume longline vessels. The average reef fish vessel generated annual gross revenues of $65,200, of which $7,400 was from sales of vermilion snapper. Also, according to a survey of reef fish processors in the Southeast, employment by reef fish processors totaled 700 individuals, both part and full time. Given this number and the likelihood that fish dealers are generally of smaller size than processors, employment by any of the affected dealers is very likely to be less than 500 individuals. Furthermore, according to two surveys of for-hire vessels in the Gulf, average gross receipts for charterboats range from $58,000 in the eastern Gulf to $81,000 in the western Gulf, or an overall average of $64,000. Gross receipts for headboats range from $281,000 in the eastern Gulf to $550,000 in the western Gulf, or an overall average of $400,000. A fishing business is considered a small entity if it is independently owned and operated and not dominant in its field of operation, and if it has annual receipts not in excess of $3.5 million in the case of commercial harvesting entities or $6.0 million in the case of for-hire entities, or if it has fewer than 500 employees in the case of fish processors, or fewer than 100 employees in the case of fish dealers. Given these data on earnings and employment, the business entities affected by the proposed rule are determined to be small business entities.

Measures for specifying sustainable fishing parameters have no economic impacts on small entities. These specifications simply establish the boundaries for management measures that may need to be implemented. Effects could be quantified and addressed when such management measures are promulgated

There are five rebuilding alternatives under consideration. Alternative 1 is the no action alternative and is not considered a viable alternative because, pursuant to the Magnuson-Stevens Act, a rebuilding plan must be instituted for the overfished vermilion snapper stock. Alternative 2 is a 10-year rebuilding plan using a constant harvest strategy. Alternative 3, the Council's preferred alternative, is a 10-year rebuilding plan using a stepped strategy. Alternative 4 is a 10-year rebuilding plan using a constant fishing mortality strategy. Alternative 5 is a 7-year rebuilding plan using a stepped strategy. As all alternatives require harvest reductions, at least in the initial years of the rebuilding, all would result in negative short-term impacts, but, as the stock rebuilds, more positive benefits would be realized. Over the short-run, Alternative 2 results in the least negative impacts, followed by Preferred Alternative 3. Over time, however, Alternative 2 would provide the lowest overall economic impact on small entities. Alternatives 4 and 5 would provide higher positive economic impacts than Preferred Alternative 3 over a period of 10 years, but, in the early years of the rebuilding, these two alternatives would bring about more negative effects on small entities. Over the entire period considered, the various rebuilding alternatives may be ranked in descending order in terms of net economic impacts as follows: Alternative 5, Alternative 4, Alternative 3, Alternative 2, and Alternative 1.

Measures to reduce harvest of the recreational and commercial sectors have direct and immediate impacts of the operations of small entities. There are six recreational management measure alternatives under consideration. Alternative 1 is the no action alternative, which does not effect any harvest reduction. Alternative 2 provides for a daily bag limit of 2 fish per person within the existing 20-reef fish aggregate bag limit. Alternative 3 imposes a minimum size limit of 11 inches (28 cm) total length (TL) with either a 10-fish (Preferred Alternative 3A) or 7-fish (Alternative 3B) daily bag limit per person within the existing 20-reef fish aggregate bag limit. Alternative 4 considers the implicit recreational allocation of total allowable catch as a quota, and would subject the recreational fishery to possible quota closures. Alternative 5 requires vermilion snapper seasonal closure from May 1 to June 21 annually. Alternative 4 provides the most net revenues to for-hire vessels in both the short term and the long term. A good deal of this effect, however, is due to the higher allocation given to the recreational sector. All other alternatives, including Preferred Alternative 3A, would generate short-term reductions but long-term increases in vessel net revenues. Preferred Alternative 3A results in the highest negative impacts in the short term and the lowest positive impacts in the long term. Preferred Alternative 3A would reduce for-hire vessel profits by $2.29 million ($1,476 per vessel) in the first 5 years of the rebuilding but would increase profits by $5.05 million ($3,254 per vessel) in the subsequent rebuilding period, resulting in an overall increase in profits by $2.76 million ($1,778 per vessel) for the entire 10-year rebuilding period.

There are eight commercial management alternatives under consideration. Alternative 1 is the no action alternative. Alternative 2 provides for a trip limit option of 1,625 lb (737 kg) of vermilion snapper. Alternative 3 imposes a minimum size limit of 12 inches (30.5 cm) TL. Alternative 4A imposes an 11-inch (28-cm) TL minimum size limit together with a trip limit of 2,300 lb (1,043 kg) of vermilion snapper. Alternative 4B imposes an 11-inch (28-cm) TL minimum size limit together with a trip limit of 2,250 lb (1,021 kg) of vermilion snapper. Alternative 5 imposes a quota equivalent to a 67-percent allocation of total allowable catch, thereby potentially subjecting the commercial fishery to quota closures. Alternative 6 provides for a vermilion snapper seasonal closure of August 1 through September 30 and December 1 through 31 annually. Preferred Alternative 7 imposes an 11-inch (28-cm) TL size limit and a 40-day closed season from April 22 through May 31. All alternatives would result in negative effects in the short term. Over the 10-year period, the seasonal closure (Alternative 6), the quota (Alternative 5), and the 11-inch TL minimum size along with the 40-day closure (Preferred Alternative 7) would result in the largest increase in net revenues. Size limit alternatives would result in the least increase in net revenues. In fact, the 12-inch (30.5-cm) TL minimum size limit would reduce net revenues over a 10-year period. Preferred Alternative 7 would reduce commercial vessel profits by $1.37 million ($3,107 per vessel) in the first 5 years of the rebuilding but would increase profits by $2.85 million ($6,463 per vessel) in the subsequent period, resulting in an overall increase in profits by $1.47 million ($3,333 per vessel) for the entire 10-year rebuilding period.

Copies of the IRFA are available from NMFS (see ADDRESSES).

List of Subjects in 50 CFR Part 622

Fisheries, Fishing, Puerto Rico, Reporting and recordkeeping requirements, Virgin Islands.

Dated: March 4, 2005.
John Oliver
Deputy Assistant Administrator for Operations, National Marine Fisheries Service.

For the reasons set out in the preamble, 50 CFR part 622 is proposed to be amended as follows:

PART 622—FISHERIES OF THE CARIBBEAN, GULF, AND SOUTH ATLANTIC

1. The authority citation for part 622 continues to read as follows:

Authority: 16 U.S.C. 1801 et seq.

2. In § 622.34, paragraph (n) is revised to read as follows:

§ 622.34 Gulf EEZ seasonal and/or area closures.

(n) Seasonal closure of the commercial fishery for vermilion snapper. The commercial fishery for vermilion snapper in or from the Gulf EEZ is closed from April 22 through May 31, each year. During the closure, no person aboard a vessel for which a valid Federal commercial permit for Gulf reef fish has been issued may fish for or possess vermilion snapper in the Gulf, regardless of where harvested. However, a person aboard a vessel for which the permit indicates both charter vessel/headboat for Gulf reef fish and commercial Gulf reef fish may continue to retain vermilion snapper under the bag and possession limits specified in § 622.39(b)(1)(v) and (b)(2), respectively, provided the vessel is operating as a charter vessel or headboat. During the closure, the sale or purchase of vermilion snapper is prohibited as specified in § 622.45(c)(5).

3. In § 622.37, paragraph (d)(1)(ii) is revised to read as follows:

§ 622.37 Size limits.

(d) * * *

(1) * * *

(ii) Vermilion snapper--11 inches (27.9 cm), TL.

4. In § 622.39, paragraph (b)(1)(v) is revised to read as follows:

§ 622.39 Bag and possession limits.

(b) * * *

(1) * * *

(v) Gulf reef fish, combined, excluding those specified in paragraphs (b)(1)(i) through (b)(1)(iv) and paragraphs (b)(1)(vi) through (b)(1)(vii) of this section and excluding dwarf sand perch and sand perch--20, but not to exceed 10 vermilion snapper.

5. In § 622.45, paragraph (c)(5) is added to read as follows:

§ 622.45 Restrictions on sale/purchase.

(c) * * *

(5) From April 22 through May 31, each year, no person may sell or purchase vermilion snapper harvested from the Gulf by a vessel with a valid Federal commercial permit for Gulf reef fish. This prohibition on sale/purchase does not apply to vermilion snapper that were harvested, landed ashore, and sold prior to April 22 and were held in cold storage by a dealer or processor.

[FR Doc. 05-4608 Filed 3-8-05; 8:45 am]

BILLING CODE 3510-22-S